DEPARTMENT OF HEALTH AND HUMAN SERVICES

Centers for Disease Control and Prevention

[60Day-14-0234]

Proposed Data Collections Submitted for Public Comment and Recommendations

The Centers for Disease Control and Prevention (CDC), as part of its continuing effort to reduce public burden, invites the general public and other Federal agencies to take this opportunity to comment on proposed and/or continuing information collections, as required by the Paperwork Reduction Act of 1995. To request more information on the below proposed project or to obtain a copy of the information collection plan and instruments, call 404-639-7570 or send comments to Leroy Richardson, 1600 Clifton Road, MS-D74, Atlanta, GA 30333 or send an email to omb@cdc.gov.

Comments submitted in response to this notice will be summarized and/or included in the request for Office of Management and Budget (OMB) approval. Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information. Written comments should be received within 60 days of this notice.

Proposed Project

National Ambulatory Medical Care Survey (NAMCS), (OMB No. 0920-0234 exp. 12/31/2014)—Revision—National Center for Health Statistics (NCHS), Centers for Disease Control and Prevention (CDC).

Background and Brief Description

Section 306 of the Public Health Service (PHS) Act (42 U.S.C. 242k), as amended, authorizes that the Secretary of Health and Human Services (DHHS), acting through NCHS, shall collect statistics on the utilization of health care provided by non-federal office-based physicians in the United States. On December 13, 2011, the Office of Management and Budget (OMB) approved data collection for three years from 2012 to 2014. This revision is to request approval to continue NAMCS data collection activities for three years from 2015-2017, make minor modifications to survey content, and to collect additional questions on alcohol screening practices. This notice also covers potential increases in sample size that might result due to other future budget allocations.

NAMCS was conducted annually from 1973 to 1981, again in 1985, and resumed as an annual survey in 1989. The purpose of NAMCS, a voluntary survey, is to meet the needs and demands for statistical information about the provision of ambulatory medical care services in the United States. Ambulatory services are rendered in a wide variety of settings, including physicians' offices and hospital outpatient and emergency departments.

The NAMCS target universe consists of all office visits made by ambulatory patients to non-Federal office-based physicians (excluding those in the specialties of anesthesiology, radiology, and pathology) who are engaged in direct patient care. In 2006, physicians and mid-level providers (i.e., nurse practitioners, physician assistants, and nurse midwives) practicing in community health centers (CHCs) were added to the NAMCS sample, and these data will continue to be collected.

To complement NAMCS data, NCHS initiated the National Hospital Ambulatory Medical Care Survey (NHAMCS, OMB No. 0920-0278) in 1992 to provide data concerning patient visits to hospital outpatient and emergency departments. NAMCS and NHAMCS are the principal sources of data on ambulatory care provided in the United States.

A three-year clearance is requested. There is no cost to the respondents other than their time.

Estimated Annualized Burden Hours
Type of respondent | Form name | Number of respondents | Number of responses per respondent | Average burden per response (in hours) | Total burden hours
Office-based physicians (Core and Expansion Sample) | Physician Induction Interview (NAMCS-1) | 4,999 | 1 | 45/60 | 3,749
| Patient Record form (NAMCS-30) (Physician abstracts on web-based Centurion) | 1,000 | 30 | 14/60 | 7,000
| Pulling, re-filing medical record forms (FR abstracts) | 3,999 | 30 | 1/60 | 2,000
Office-based physicians (Contingency Sample) | Physician Induction Interview (NAMCS-1) | 6,012 | 1 | 45/60 | 4,509
| Patient Record form (NAMCS-30) (Physician abstracts on web-based Centurion) | 1,202 | 30 | 14/60 | 8,414
| Pulling, re-filing medical record forms (FR abstracts) | 4,809 | 30 | 1/60 | 2,405
Community Health Centers (Core and Expansion Sample) | Induction Interview—service delivery site (NAMCS-201) | 1,156 | 1 | 20/60 | 385
| Induction Interview—Providers | 2,312 | 1 | 45/60 | 1,734
| Patient Record form (NAMCS-30) (Provider abstracts) | 462 | 30 | 14/60 | 3,234
| Pulling, re-filing medical record forms (FR abstracts) | 1850 | 30 | 1/60 | 925
Community Health Centers (Contingency Sample) | Induction Interview—service delivery site (NAMCS-201) | 904 | 1 | 20/60 | 301
| Induction Interview—Providers | 1,808 | 1 | 45/60 | 1,356
| Patient Record form (NAMCS-30) (Provider abstracts) | 362 | 30 | 14/60 | 2,534
| Pulling, re-filing medical record forms (FR abstracts) | 1,446 | 30 | 1/60 | 723
Re-abstraction study | Pulling, re-filing medical record forms (FR abstracts) | 500 | 10 | 1/60 | 83
Total |  |  |  |  | 39,352

Leroy Richardson,
Chief, Information Collection Review Office, Office of Scientific Integrity, Office of the Associate Director for Science, Office of the Director, Centers for Disease Control and Prevention.

[FR Doc. 2014-14360 Filed 6-18-14; 8:45 am]

BILLING CODE 4163-18-P